DEPARTMENT OF EDUCATION

[Docket No. ED-2013-ICCD-0075]

Agency Information Collection Activities; Submission to the Office of Management and Budget for Review and Approval; Comment Request; IES Fellows Survey

AGENCY: Institute of Education Sciences/National Center for Education Statistics (IES), Department of Education (ED).

ACTION: Notice.

SUMMARY: In accordance with the Paperwork Reduction Act of 1995 (44 U.S.C. chapter 3501 et seq.), ED is proposing a revision of an existing information collection.

DATES: Interested persons are invited to submit comments on or before September 12, 2013.

ADDRESSES: Comments submitted in response to this notice should be submitted electronically through the Federal eRulemaking Portal at http://www.regulations.gov by selecting Docket ID number ED-2013-ICCD-0075 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: IES Fellows Survey.

OMB Control Number: 1850-0873.

Type of Review: Revision of an existing collection of information.

Respondents/Affected Public: Individuals or households.

Total Estimated Number of Annual Responses: 625.

Total Estimated Number of Annual Burden Hours: 219.

Abstract: The surveys are for predoctoral and postdoctoral fellows taking part in the Institute of Education Sciences three education training grant programs. These programs provide universities support to provide predoctoral training in education research, postdoctoral training in education research, or postdoctoral training in special education research. The results of the survey will be used both to improve the fellowship programs as well as to provide information on the programs to policymakers, practitioners, and the public.

Dated: August 8, 2013.
Stephanie Valentine,
Acting Director, Information Collection Clearance Division, Privacy, Information and Records Management Services, Office of Management.

[FR Doc. 2013-19553 Filed 8-12-13; 8:45 am]

BILLING CODE 4000-01-P